DEPARTMENT OF TRANSPORTATION

Surface Transportation Board

[Docket No. FD 35966]

Martin Marietta Materials, Inc.—Acquisition of Control Exemption—Rock & Rail LLC

AGENCY: Surface Transportation Board, DOT.

ACTION: Correction to notice of exemption.

On October 9, 2015, Martin Marietta Materials, Inc. (MMM), a noncarrier, filed a verified notice of exemption to acquire control of Rock & Rail, Inc. (RRI), a Class III railroad. On October 23, 2015, notice of the exemption was served and published in the Federal Register (80 FR 64,491). The exemption became effective November 8, 2015.

On November 4, 2015, MMM filed a letter with the Board advising that the notice requires clarification. According to MMM, RRI also owns and operates rail lines in Colorado Springs, Colo.¹ MMM states that all of the rail lines owned and operated by RRI are in Colorado and do not connect, nor are there plans to connect, with the railroads controlled by MMM. MMM also clarifies that the correct legal name of RRI is “Rock & Rail LLC.” This notice corrects the information described above and the case caption. All other information in the notice is correct.

¹ MMM states that RRI obtained Board authority in Rock & Rail, Inc.—Acquis. and Operation Exemption—Railroad Lines near Kelker, El Paso Cty., Colo., FD 33764 (STB served June 25, 1999).

Board decisions and notices are available on our Web site at “WWW.STB.DOT.GOV.”

Decided: November 24, 2015.
By the Board, Rachel D. Campbell, Director, Office of Proceedings.
Tia Delano,
Clearance Clerk.

[FR Doc. 2015-30341 Filed 11-30-15; 8:45 am]

BILLING CODE 4915-01-P